Title 3—

The President

Proclamation 10448 of September 16, 2022

Constitution Day and Citizenship Day, and Constitution Week, 2022

By the President of the United States of America

A Proclamation

America is founded on the most powerful idea in history—that we are all created equal. That idea sparked our revolution, ignited a wave of change across the world, and beats in the hearts of Americans today. It is central to our Constitution, and citizenship embodies a true faith and allegiance to give it full meaning in our everyday lives. On this Constitution Day and Citizenship Day, and during this Constitution Week, we recommit to protecting and defending the very idea of America.

When our Founding Fathers came together nearly 250 years ago, they set in motion an experiment that changed the world. They disagreed and debated but ultimately came together to forge a new system of self-government—a system balanced between a strong Federal Government and the States, held together by co-equal branches and a separation of powers. America would not be a land of kings or dictators; it would be a Nation of laws—a Nation of order, not chaos; of peace, not violence. Here in America, the people rule through the ballot, and their will prevails.

As we have seen throughout our history, though, nothing about our democracy is guaranteed. America is an idea—one that requires constant stewardship. We have to fight for it, earn it, and renew it with each generation. That is why my Administration will do everything in our power to uphold and defend our Constitution against all enemies, foreign and domestic, and to protect the rights and freedoms that it promises us all. That means we have to be firm, resolute, and unyielding in defending the right to vote and ensuring that each vote is counted. It is a sacred right from which all others flow. But last year alone, nearly 20 States passed laws to make it harder to vote—not only to suppress the vote, but to subvert it. I have directed Federal agencies to promote voting access, and I appointed top civil rights advocates to the Department of Justice, which has doubled its voting rights staff. We need the Congress to finally pass the Freedom to Vote and John Lewis Voting Rights Advancement Acts to prevent voter suppression, protect election officials, ban dark money, and end partisan gerrymandering, preserving our democracy and the spirit of our Constitution.

As we reflect today on the promise of our Nation, we also join millions of Americans in reaffirming the rights and responsibilities of citizenship and welcoming our new citizens, whose courage and faith in America has brought them here from every part of the world to start new lives. My Administration will keep working to make the naturalization process faster and more efficient and to build a more fair, orderly, and humane immigration system for all. The commitment, sacrifices, and dreams of new Americans have made us strong since our Nation's founding, and we celebrate their optimism, drive, and contributions.

We are living at an inflection point in history, engaged in a struggle between democracy and autocracy at home and abroad. We have to show the world that democracy can deliver. Today, this week, and always, it is up to us all to stand for the rule of law, to preserve the flame of democracy, and to keep the promise of America alive.

To honor the timeless principles enshrined in our Constitution, the Congress has, by joint resolution of February 29, 1952 (36 U.S.C. 106), designated September 17 as ``Constitution Day and Citizenship Day'' and authorized the President to issue a proclamation calling on United States officials to display the flag of the United States on all Government buildings on that day. By joint resolution of August 2, 1956 (36 U.S.C. 108), the Congress further requested that the President proclaim the week beginning September 17 and ending September 23 of each year as ``Constitution Week.''

NOW, THEREFORE, I, JOSEPH R. BIDEN JR., President of the United States of America, by virtue of the authority vested in me by the Constitution and the laws of the United States, do hereby proclaim September 17, 2022, as Constitution Day and Citizenship Day, and September 17 through September 23 as Constitution Week. On this day and during this week, we celebrate our Constitution and the rights of citizenship that together we enjoy as the people of this proud Nation.

IN WITNESS WHEREOF, I have hereunto set my hand this sixteenth day of September, in the year of our Lord two thousand twenty-two, and of the Independence of the United States of America the two hundred and forty-seventh.

[FR Doc. 2022-20578

Filed 9-20-22; 8:45 am]

Billing code 3395-F2-P